DEPARTMENT OF COMMERCE

National Oceanic and Atmospheric Administration

RIN 0648-XD887

Marine Mammals; File No. 19444

AGENCY: National Marine Fisheries Service (NMFS), National Oceanic and Atmospheric Administration (NOAA), Commerce.

ACTION: Notice; issuance of permit.

SUMMARY: Notice is hereby given that a permit has been issued to Richard Breezy Wynn, 7216 Wellington Drive, Knoxville, TN 37919, to conduct commercial or educational photography on killer (Orcinus orca) and beluga (Delphinapterus leucas) whales.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Carrie Hubard or Brendan Hurley, (301) 427-8401.

SUPPLEMENTARY INFORMATION: On April 23, 2015, notice was published in the Federal Register (80 FR 22716) that a request for a permit to conduct commercial or educational photography on the species identified above had been submitted by the above-named applicant. The requested permit has been issued under the authority of the Marine Mammal Protection Act of 1972, as amended (16 U.S.C. 1361 et seq.) and the regulations governing the taking and importing of marine mammals (50 CFR part 216).

The permit authorizes filming marine mammals in Bristol Bay, Nushagak and Kvichak Bays, Kenai Fjords, Resurrection Bay, Aialik Bay, Harris Bay and Blying Sound, Alaska. Filming would occur from boats, a kayak, and an underwater diver; hydrophones would be used to record sounds. Footage would be used in a feature film for theatrical release, focusing on salmon and the animals that depend on them. The permit is valid through October 31, 2015.

In compliance with the National Environmental Policy Act of 1969 (42 U.S.C. 4321 et seq.), a final determination has been made that the activity proposed is categorically excluded from the requirement to prepare an environmental assessment or environmental impact statement.

Dated: June 23, 2015.
Julia Harrison,
Chief, Permits and Conservation Division, Office of Protected Resources, National Marine Fisheries Service.

[FR Doc. 2015-15750 Filed 6-25-15; 8:45 am]

BILLING CODE 3510-22-P